DEPARTMENT OF AGRICULTURE

Animal and Plant Health Inspection Service

7 CFR Part 319

[Docket No. APHIS-2011-0028]

RIN 0579-AD61

Importation of Fresh Bananas From the Philippines Into the Continental United States

Correction

In proposed rule document 2012-9063 appearing on pages 22510 through 22514 in the issue of Monday, April 16, 2012, make the following correction:

On page 22513, in the second column, under Responses per Respondent, “5,456” should read “5.456”.

[FR Doc. C1-2012-9063 Filed 4-26-12; 8:45 am]

BILLING CODE 1505-01-D